DEPARTMENT OF LABOR

Office of the Secretary

Job Corps: Preliminary Finding of No Significant Impact (FONSI) for the Edison Job Corps Center Solar PV Project located at the Edison Job Corps Center

AGENCY: Office of the Secretary, Department of Labor.

ACTION: Preliminary Finding of No Significant Impact (FONSI) for Solar Panel Installation for the Edison Job Corps Center Solar PV Project to be located at the Edison Job Corps Center, 500 Plainfield Avenue, Township of Edison, New Jersey 08817 (Edison JCC).

SUMMARY: Pursuant to the Council on Environmental Quality Regulations (40 CFR part 1500-08) implementing procedural provisions of the National Environmental Policy Act (NEPA), the Department of Labor, Office of the Secretary (OSEC) in accordance with 29 CFR 11.11(d), gives notice that an Environmental Assessment (EA) has been prepared for a proposed Edison Job Corps Center Solar PV Project to be located at the Edison JCC, and that the proposed plan for the construction of solar panels at the Edison JCC will have no significant environmental impact. This Preliminary Finding of No Significant Impact (FONSI) will be made available for public review and comment for a period of 30 days.

DATES: Comments must be submitted by October 1, 2009.

ADDRESSES: Any comment(s) are to be submitted to William A. Dakshaw, P.E., Division of Facilities and Asset Management, Department of Labor, 200 Constitution Avenue, NW., Room N-4460, Washington, DC 20210, (202) 693-2867 (this is not a toll-free number).

FOR FURTHER INFORMATION CONTACT: Copies of the EA are available to interested parties by contacting William A. Dakshaw, P.E., Division of Facilities and Asset Management, Department of Labor, 200 Constitution Avenue, NW., Room N-4460, Washington, DC 20210, (202) 693-2867 (this is not a toll-free number).

SUPPLEMENTARY INFORMATION: This EA summary addresses the proposed construction of solar panels located at the Edison JCC. The proposed project includes a renewable energy project that will consist of installing 10 rows of Ying Li 175 Photovoltaic Modules in an east/west orientation. The 1,620 modules will be fixed at 20 degrees. The solar panel rows and associated equipment will be surrounded by a fence. The entire proposed installation will encompass approximately 2 acres of the Edison JCC and will be located in an undeveloped grass lawn area surrounded by dormitory buildings on the south, storage sheds to the east, and the border of the facility to the west and north. The proposed project will enable the generation of approximately 284 kilowatts during optimal performance. Solar-generated electricity created by the solar photovoltaic system will reduce pollution and the demand for fossil fuels. The solar panels will generate energy for the Edison JCC, demonstrate renewable energy capabilities to Job Corps Students, and help the program meet Federal requirements in Executive Order 13423 for renewable energy production.

This project is not expected to have a negative impact on population demographics, the surrounding area, environmental quality, or natural systems and heritage. Based on the information gathered during the preparation of the EA, the construction of the Edison Job Corps Center Solar PV Project at the Edison JCC will not create any significant adverse impacts on the environment.

Dated: August 25, 2009.
Lynn Intrepidi,
Interim National Director of Job Corps.

[FR Doc. E9-20973 Filed 8-31-09; 8:45 am]

BILLING CODE 4510-23-P